ENVIRONMENTAL PROTECTION AGENCY

40 CFR Part 271

[FRL-7241-4]

Georgia: Final Authorization of State Hazardous Waste Management Program Revision

AGENCY: Environmental Protection Agency (EPA).

ACTION: Immediate final rule.

SUMMARY: Georgia has applied to EPA for Final authorization of the changes to its hazardous waste program under the Resource Conservation and Recovery Act (RCRA). EPA has determined that these changes satisfy all requirements needed to qualify for Final authorization, and is authorizing the State's changes through this immediate final action. EPA is publishing this rule to authorize the changes without a prior proposal because we believe this action is not controversial and do not expect comments that oppose it. Unless we get written comments which oppose this authorization during the comment period, the decision to authorize Georgia's changes to their hazardous waste program will take effect. If we get comments that oppose this action, we will publish a document in the Federal Register withdrawing this rule before it takes effect and a separate document in the proposed rules section of this Federal Register will serve as a proposal to authorize the changes.

DATES: This Final authorization will become effective on September 16, 2002 unless EPA receives adverse written comment by August 15, 2002. If EPA receives such comment, it will publish a timely withdrawal of this immediate final rule in the Federal Register and inform the public that this authorization will not take effect.

ADDRESSES: Send written comments to Narindar Kumar, Chief, RCRA Programs Branch, Waste Management Division, U.S. Environmental Protection Agency, The Sam Nunn Atlanta Federal Center, 61 Forsyth Street, SW, Atlanta, Georgia 30303-8960; (404) 562-8440. You can view and copy Georgia's application from 8 a.m. to 4:30 p.m. at the following addresses: The Georgia Department of Natural Resources Environmental Protection Division, 205 Butler Street, Suite 1154 East, Atlanta, Georgia 30334-4910, and from 8:30 a.m. to 3:45 p.m., EPA Region 4, Library, The Sam Nunn Atlanta Federal Center, 61 Forsyth Street, SW, Atlanta, Georgia 30303-8960, Phone number (404) 562-8190, Kathy Piselli, Librarian.

FOR FURTHER INFORMATION CONTACT: Narindar Kumar, Chief, RCRA Programs Branch, Waste Management Division, U.S. Environmental Protection Agency, The Sam Nunn Atlanta Federal Center, 61 Forsyth Street, SW, Atlanta, Georgia 30303-8960; (404) 562-8440.

SUPPLEMENTARY INFORMATION:

A. Why Are Revisions to State Programs Necessary?

States which have received final authorization from EPA under RCRA section 3006(b), 42 U.S.C. 6926(b), must maintain a hazardous waste program that is equivalent to, consistent with, and no less stringent than the Federal program. As the Federal program changes, States must change their programs and ask EPA to authorize the changes. Changes to State programs may be necessary when Federal or State statutory or regulatory authority is modified or when certain other changes occur. Most commonly, States must change their programs because of changes to EPA's regulations in 40 Code of Federal Regulations (CFR) parts 124, 260 through 266, 268, 270, 273 and 279.

B. What Decisions Have We Made in This Rule?

We conclude that Georgia's application to revise its authorized program meets all of the statutory and regulatory requirements established by RCRA. Therefore, we grant Georgia Final authorization to operate its hazardous waste program with the changes described in the authorization application. Georgia has responsibility for permitting Treatment, Storage, and Disposal Facilities (TSDFs) within its borders and for carrying out the aspects of the RCRA program described in its revised program application, subject to the limitations of the Hazardous and Solid Waste Amendments of 1984 (HSWA). New Federal requirements and prohibitions imposed by Federal regulations that EPA promulgates under the authority of HSWA take effect in authorized States before they are authorized for the requirements. Thus, EPA will implement those requirements and prohibitions in Georgia, including issuing permits, until the State is granted authorization to do so.

C. What Is the Effect of Today's Authorization Decision?

The effect of this decision is that a facility in Georgia subject to RCRA will now have to comply with the authorized State requirements instead of the equivalent Federal requirements in order to comply with RCRA. Georgia has enforcement responsibilities under its State hazardous waste program for violations of such program, but EPA retains its authority under RCRA sections 3007, 3008, 3013, and 7003, which include, among others, authority to:

• Do inspections, and require monitoring, tests, analyses or reports

• Enforce RCRA requirements and suspend or revoke permits

• Take enforcement actions regardless of whether the State has taken its own actions

This action does not impose additional requirements on the regulated community because the regulations for which Georgia is being authorized by today's action are already effective, and are not changed by today's action.

D. Why Wasn't There a Proposed Rule Before Today's Rule?

EPA did not publish a proposal before today's rule because we view this as a routine program change and do not expect comments that oppose this approval. We are providing an opportunity for public comment now. In addition to this rule, in the proposed rules section of today's Federal Register we are publishing a separate document that proposes to authorize the State program changes.

E. What Happens if EPA Receives Comments That Oppose This Action?

If EPA receives comments that oppose this authorization, we will withdraw this rule by publishing a document in the Federal Register before the rule becomes effective. EPA will base any further decision on the authorization of the State program changes on the proposal mentioned in the previous paragraph. We will then address all public comments in a later final rule. You may not have another opportunity to comment. If you want to comment on this authorization, you must do so at this time.

If we receive comments that oppose only the authorization of a particular change to the State hazardous waste program, we will withdraw that part of this rule but the authorization of the program changes that the comments do not oppose will become effective on the date specified above. The Federal Register withdrawal document will specify which part of the authorization will become effective, and which part is being withdrawn.

F. What Has Georgia Previously Been Authorized for?

Georgia initially received Final authorization on August 7, 1984, effective August 21, 1984 (49 FR 31417), to implement the RCRA hazardous waste management program. We granted authorization for changes to their program on July 7, 1986, effective September 18, 1986 (51 FR 24549), July 28, 1988, effective September 26, 1988 (53 FR 28383), July 24, 1990, effective September 24, 1990 (55 FR 30000), February 12, 1991, effective April 15, 1991 (56 FR 5656), May 11, 1992, effective July 10, 1992 (57 FR 20055), November 25, 1992, effective January 25, 1993 (57 FR 55466), February 26, 1993, effective April 27, 1993 (58 FR 11539), November 16, 1993, effective January 18, 1994 (58 FR 60388), April 26, 1994, effective June 27, 1994 (59 FR 21664), May 10, 1995, effective July 10, 1995 (60 FR 24790), August 30, 1995, effective October 30, 1995 (60 FR 45069), March 7, 1996, effective May 6, 1996 (61 FR 9108), September 18, 1998, effective November 17, 1998 (63 FR 49852), October 14, 1999, effective December 13, 1999 (64 FR 55629), and November 28, 2000, effective March 30, 2001 (66 FR 8090).

G. What Changes Are We Authorizing With Today's Action?

On April 28, 2000, Georgia submitted a final complete program revision application, seeking authorization of their changes in accordance with 40 CFR 271.21. Georgia's revision consists of provisions promulgated July 1, 1998 through June 30, 1999, otherwise known as RCRA Cluster IX. We now make an immediate final decision, subject to receipt of written comments that oppose this action, that Georgia's hazardous waste program revision satisfies all of the requirements necessary to qualify for Final authorization. Therefore, we grant Georgia Final authorization for the following program changes:

Description of federal requirement | Federal Register | Analogous State authority ¹
Checklist 169—Petroleum Refining Process Wastes | 08/06/98 63 FR 42184 | 12-8-62(2),(9), (10), and (20), 12-8-64(1)(D), (I), and (M), 12-8-65(a)(16) and (21), Georgia Hazardous Waste Management Act (GHWMA), Official Code of Georgia (O.C.G.A.) Rule 391-3-11-.07(1) 12—8-62(10) and (20), 12-8-64(1)(D) and (J), 12-8-65(a)(16) and (21) GHWMA, O.C.G.A. Rule 391-3-11-.07(1) 12-8-62(10) and (20), 12-8-64(1)(D) and (J), 12-8-65(a)(16) and (21) GHWMA, O.C.G.A. Rule 391-3-11-.07(1) 12-8-62(10) and (20), 12-8-64(1)(J) and (L), 12-8-65(a)(16) and (21) GHWMA, O.C.G.A. Rules 391-3-11.07(1) and 391-3-11-.10(3) 12-8-62(14) and (23), 12-8-64(1)(A), (B), (D), (F) and (I), 12-8-65(a)(16) and (21) GHWMA, O.C.G.A. Rule 391-3-11-.16.
Checklist 170—Land Disposal Restrictions Phase IV—Zinc Micronutrient Fertilizers, Amendment | 08/31/98 63 FR 46334 | 12-8-62(14) and (23), 12-8-64(1)(A), (B), (D), (F), and (I), 12-8-65(a)(16) and (21) GHWMA, O.C.G.A. Rule 391-3-11-.16.
Checklist 171—Emergency Revision of Land Disposal Restrictions (LDR) Treatment Standards for Listed Hazardous Wastes from Carbamate Production | 09/04/98 63 FR 47415 | 12-8-62(14) and (23), 12-8-64(1)(A), (B), (D), (F), and (I), 12-8-65(a)(16) and (21) GHWMA, O.C.G.A. Rule 391-3-11-.16.
Checklist 172—Land Disposal Restrictions Phase IV—Extension of Compliance Date for Characteristic Slags | 09/9/98 63 FR 48127 | 12-8-62(14) and (23), 12-8-64(1)(A), (B), (D), (F), and (I), 12-8-65(a)(16) and (21) GHWMA, O.C.G.A. Rule 391-3-11-.16.
Checklist 173—Land Disposal Restrictions; Treatment Standards for Spent Potliners from Primary Aluminum Reduction (K088); Final Rule | 09/24/98 63 FR 51264 | 12-8-62(14) and (23), 12-8-64(1) (A), (B), (D), (F), and (I), 12-8-65(a)(16) and (21), GHWMA, O.C.G.A. Rule 391-3-11-.16 12-8-62(23). 12-8-64(1)(A), (B), (D), (F), and (I), 12-8-65(a)(16) and (21) GHWMA, O.C.G.A. Rule 391-3-11-.16.
Checklist 174—Post-Closure Permit Requirements and Closure Process | 10/22/98 63 FR 5671 | Rules ² 391-3-11-.05(1), 391-3-11-.10(1), 391-3-11-.10(2), and 391-3-11-.11(1)(a).
Checklist 175—HWIR-Media | 11/30/98 63 FR 65937 | 12-8-62(10) and (20), 12-8-64(1)(D) and (J), 12-8-65(a)(16) and (21) GHWMA, O.C.G.A. Rule 391-3-11-.07(1) 12-8-64(1)(A),(B),(D),(F), and (I), 12-8-65(a)(16) and (21), 12-8-66(e) GWHWM, O.C.G.A. Rules 391-3-11-.10(2), 391-3-11-.11(10) 12-8-64(1)(A),(B),(B),(D),(F), and (I), 12-8-65(a)(16) and (21) GHWMA, O.C.G.A. Rules 391-3-11-.02(1) and 391-3-11-.10(2) 12-8-64(1)(A),(B),(D),(F), and (I), 12-8-65(a)(16) and (21) GHWMA, O.C.G.A. Rules 391-3-11-.02(1), 391-3-11-.10(1) and (2), 3391-3-11.16 12-8-64(1)(A),(B),(D),(F), and (I), 12-8-65(a)(16) and (31) GHWMA, O.C.G.A. Rules 391-3-11-.02 and 391-3-11-.10(2) 12-8-64(1)(A),(B),(C),(D),(E),(F), and (I), 12-8-65(a)(3),(16), and (21), 12-8-66 GHWMA, O.C.G.A. Rules 391-3-11-.11(3)(d) and (f), (7)(d), and (12), 391-3-11-.11(10).
Checklist 176—Universal Waste Rule—Technical Amendments | 12/24/98 63 FR 71229 | 12-8-62-(13), 12-8-64(1)(A), (B), (D),(E),(F),(I),(K),(L), 12-8-65(a)(16) and (21) GHWMA, O.C.G.A. Rule 391-3-11-.18 12-8-62-(13), 12-8-64(1)(A),(B),(D),(E),(F),(I),(K),(L), 12-8-65(a)(16) and (21) GHWMA, O.C.G.A. Rule 391-3-11-.10(3) and 391-3-11.18.
Checklist 177—Organic Air Emission Standards: Clarification and Technical Amendments | 01/21/99 64 FR 3388 | 12-8-64(1)(A),(B),(C),(D),(E), and (F), 12-8-65(a)(3),(16), and (21) GHWMA, O.C.G.A. Rules 391-1-11-.08(1) and 391-3-11-.10(1) and (2).
Checklist 178—Petroleum Refining Process Wastes—Leachate Exemption | 02/11/99 64 FR 6813 | 12-8-62(10), 12-8-64(1)(D), 12-8-65(a)(16) and (21) GHWMA, O.C.G.A. Rule 391-3-11-.07(1).
Checklist 179—Land Disposal Restrictions Phase IV—Technical Corrections and Clarifications to Treatment Standards | 05/11/99 64 FR 25413 | 12-8-62(10) and (20), 12-8-64(1)(D), and (J), 12-8-65(a)(16) and (21) GHWMA, O.C.G.A. Rule 391-3-11-.07(1) 12-8-62(20), 12-8-64(1)(D),(J), and (L), 12-8-65(a)(16) and (21) GHWMA, O.C.G.A. Rule 391-3-11-.07(1) 12-8-62(14) and (23), 12-8-64(1)(A),(B),(D),(F), and (I), 12-8-65(a)(16) and (21) GHWMA, O.C.G.A. Rule 391-3-11-.16 12-8-62(14) and (23), 12-8-64(1)(A), (B),(D),(E),(F), and (I), 12-8-65(a)(16) and (21) GHWMA, O.C.G.A. Rules 391-3-11-.08(1) and 391-3-11.16 12-8-62(14) and (23), 12-8-64(1)(A),(B),(D),(E),(F), and (I), 12-8-65(a)(16) and (21) GHWMA, O.C.G.A. Rule 391-3-11-.16 12-8-62(14) and (23), 12-8-64(1)(A),(B),(D),(F), and (I), 12-8-65(a)(16) and (21) GHWMA, O.C.G.A. Rule 391-3-11-.16 12-8-62(14) and (23), 12-8-64(1)(A),(B),(D),(F), and (I), 12-8-65(a)(16) and (21) GHWMA, O.C.G.A. Rule 391-3-11-.16 12-8-62(23), 12-8-64(1)(A),(B)(D),(F), and (I), 12-8-65(a)(16) and (21) GHWMA, O.C.G.A. Rule 391-3-11-.16.
Checklist 180—Test Procedures for the Analysis of Oil and Grease and Non-Polar Material | 05/14/99 64 FR 26327 | 12-8-62(10), (13), and (20), 12-8-64(1)(A),(B),(D), and (F), 12-8-65(a)(16) and (21) GHWMA, O.C.G.A. Rule 391-3-11-.02(1)
¹ The Georgia provisions are from the Georgia Hazardous Waste Management Regulations effective November 16, 2000.
² State does not seek authorization for enforceable documents in lieu of post-closure permits.

H. Where Are the Revised State Rules Different From the Federal Rules?

There are no State requirements in this program revision considered to be more stringent or broader in scope than the Federal requirements.

I. Who Handles Permits After the Authorization Takes Effect?

Georgia will issue permits for all the provisions for which it is authorized and will administer the permits it issues. EPA will continue to administer any RCRA hazardous waste permits or portions of permits which we issued prior to the effective date of this authorization until they expire or are terminated. We will not issue any more new permits or new portions of permits for the provisions listed in the Table above after the effective date of this authorization. EPA will continue to implement and issue permits for HSWA requirements for which Georgia is not yet authorized.

J. What Is Codification and Is EPA Codifying Georgia's Hazardous Waste Program as Authorized in This Rule?

Codification is the process of placing the State's statutes and regulations that comprise the State's authorized hazardous waste program into the Code of Federal Regulations. We do this by referencing the authorized State rules in 40 CFR part 272. We reserve the amendment of 40 CFR part 272, subpart L for this authorization of Georgia's program until a later date.

K. Administrative Requirements

The Office of Management and Budget has exempted this action from the requirements of Executive Order 12866 (58 FR 51735, October 4, 1993), and therefore this action is not subject to review by OMB. This action authorizes State requirements for the purpose of RCRA 3006 and imposes no additional requirements beyond those imposed by State law. Accordingly, I certify that this action will not have a significant economic impact on a substantial number of small entities under the Regulatory Flexibility Act (5 U.S.C. 601 et seq.). Because this action authorizes pre-existing requirements under State law and does not impose any additional enforceable duty beyond that required by State law, it does not contain any unfunded mandate or significantly or uniquely affect small governments, as described in the Unfunded Mandates Reform Act of 1995 (Public Law 104-4). For the same reason, this action also does not significantly or uniquely affect the communities of Tribal governments, as specified by Executive Order 13084 (63 FR 27655, May 10, 1998). This action will not have substantial direct effects on the States, on the relationship between the national government and the States, or on the distribution of power and responsibilities among the various levels of government, as specified in Executive Order 13132 (64 FR 43255, August 10, 1999), because it merely authorizes State requirements as part of the State RCRA hazardous waste program without altering the relationship or the distribution of power and responsibilities established by RCRA. This action also is not subject to Executive Order 13045 (62 FR 19885, April 23, 1997), because it is not economically significant and it does not make decisions based on environmental health or safety risks.

Under RCRA 3006(b), EPA grants a State's application for authorization as long as the State meets the criteria required by RCRA. It would thus be inconsistent with applicable law for EPA, when it reviews a State authorization application, to require the use of any particular voluntary consensus standard in place of another standard that otherwise satisfies the requirements of RCRA. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this document and other required information to the U.S. Senate, the U.S. House of Representatives, and the Comptroller General of the United States prior to publication in the Federal Register. A major rule cannot take effect until 60 days after it is published in the Federal Register. This action is not a “major rule” as defined by 5 U.S.C. 804(2). This action will be effective September 16, 2002.

List of Subjects in 40 CFR Part 271

Environmental protection, Administrative practice and procedure, Confidential business information, Hazardous waste, Hazardous waste transportation, Indian lands, Intergovernmental relations, Penalties, Reporting and recordkeeping requirements.

Authority: This action is issued under the authority of 42 U.S.C. 6912(a), 6926, 6974(b).

A. Stanley Meiburg,
Acting Regional Administrator, Region 4.

[FR Doc. 02-17695 Filed 7-15-02; 8:45 am]

BILLING CODE 6560-50-P